DEPARTMENT OF LABOR

Employment and Training Administration

[TA-W-86,065F]

Northshore Mining, a Wholly Owned Subsidiary of Cliffs Natural Resources, Inc., Including On-Site Leased Workers From Silver Bay Power Company, Silver Bay, Minnesota; Amended Certification Regarding Eligibility To Apply for Worker Adjustment Assistance

In accordance with Section 223 of the Trade Act of 1974, as amended (“Act”), 19 U.S.C. 2273, the Department of Labor issued a Certification of Eligibility to Apply for Worker Adjustment Assistance on September 18, 2015, applicable to workers of Northshore Mining, a wholly owned subsidiary of Cliffs Natural Resources, Inc., Silver Bay, Minnesota. The Department's notice of determination was published in the Federal Register on October 28, 2015 (80 FR 66046).

At the request of a state workforce office, the Department reviewed the certification for workers of the subject firm. The workers are engaged in activities related to the production of iron ore pellets (magnetite and hematite).

The state workforce office reports that on-site leased workers from Silver Bay Power Company should be included in the certification. The investigation revealed that the workers from Silver Bay Power Company were on-site and under the operational control of Northshore Mining, a wholly owned subsidiary of Cliffs Natural Resources, Inc., Silver Bay, Minnesota.

The amended notice applicable to TA-W-86,065F is hereby issued as follows:

All workers of Northshore Mining, a wholly owned subsidiary of Cliffs Natural Resources, Inc., including on-site leased workers from Silver Bay Power Company, Silver Bay, Minnesota who became totally or partially separated from employment on or after June 4, 2014 through September 18, 2017, and all workers in the group threatened with total or partial separation from employment on date of certification through two years from the date of certification, are eligible to apply for adjustment assistance under Chapter 2 of Title II of the Trade Act of 1974, as amended.

Signed in Washington, DC, this 7th day of September, 2016.
Hope D. Kinglock,
Certifying Officer, Office of Trade Adjustment Assistance.

[FR Doc. 2016-27002 Filed 11-8-16; 8:45 am]

BILLING CODE P